DEPARTMENT OF JUSTICE

Bureau of Alcohol, Tobacco, Firearms and Explosives

[OMB Number 1140-NEW]

Agency Information Collection Activities; Proposed Collection; Comments Requested: FEL Out-of-Business Records

ACTION: 30-day notice.

The Department of Justice (DOJ), Bureau of Alcohol, Tobacco, Firearms and Explosives (ATF), will submit the following information collection request to the Office of Management and Budget (OMB) for review and approval in accordance with the Paperwork Reduction Act of 1995. The proposed information collection is published to obtain comments from the public and affected agencies. This proposed information collection was previously published in the Federal Register, Volume 77, Number 200, page 63340, on October 16, 2012, allowing for a 60-day comment period.

The purpose of this notice is to allow for an additional 30 days for public comment until January 22, 2013. This process is conducted in accordance with 5 CFR 1320.10.

Written comments concerning this information collection should be sent to the Office of Information and Regulatory Affairs, Office of Management and Budget, Attn: DOJ Desk Officer. The best way to ensure your comments are received is to email them to oira_submission@omb.eop.gov or fax them to 202-395-7285. All comments should reference the eight digit OMB number or the title of the collection.

Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Summary of Information Collection

(1) Type of Information Collection: New collection.

(2) Title of the Form/Collection: FEL Out of Business Records.

(3) Form Number: None. Bureau of Alcohol, Tobacco, Firearms and Explosives.

(4) Affected public who will be asked or required to respond, as well as a brief abstract: Primary: Business or other for-profit. Other: None.

Need for Collection

Federal explosives licensees (FELs) and permittees are required by 27 CFR 555.128 where an explosive materials business or operations is discontinued and succeeded by a new licensee or new permittee to reflect that fact in the records and deliver records to the successor or where discontinuance of the business or operations is absolute, deliver records to any ATF office located in the region in which the business or operations was located or to ATF Out of Business Records Center, 244 Needy Road, Martinsburg, WV 25405 within 30 days following the business or operations discontinuance. FELs and permittees are also required by 27 CFR 555.61 to furnish notification of the discontinuance or succession and submit his license or permit and any copies furnished with the license or permit to the Chief, Firearms and Explosives Licensing Center within 30 days following the discontinuance.

(5) An estimate of the total number of respondents and the amount of time estimated for an average respondent to respond: It is estimated that 200 respondents will take 30 minutes to package and deliver the records to ATF.

(6) An estimate of the total public burden (in hours) associated with the collection: There are an estimated 100 annual total burden hours associated with this collection.

If additional information is required contact: Jerri Murray, Department Clearance Officer, Policy and Planning Staff, Justice Management Division, Department of Justice, Two Constitution Square, Room 3W-1407B, 145 N Street NE., Washington, DC 20530.

Dated: December 18, 2012.
Jerri Murray,
Department Clearance Officer for PRA, U.S. Department of Justice.

[FR Doc. 2012-30767 Filed 12-20-12; 8:45 am]

BILLING CODE 4410-FY-P